DEPARTMENT OF THE INTERIOR

Bureau of Ocean Energy Management

[Docket No. BOEM-2021-0041]

Request for Interest in Commercial Leasing for Wind Power Development on the Gulf of Mexico Outer Continental Shelf (OCS)

AGENCY: Bureau of Ocean Energy Management, Interior.

ACTION: Request for interest; commercial leasing for wind power development on the Gulf of Mexico OCS.

SUMMARY: The Bureau of Ocean Energy Management (BOEM) issues this request for interest (RFI) to assess interest in, and to invite public comment on, possible commercial wind energy leasing on the Gulf of Mexico OCS. BOEM will consider information received in response to this RFI to determine whether to schedule a competitive lease sale or to issue a noncompetitive lease for any portion of the area described in this RFI (RFI Area). Even if you are not interested in identifying specific acreage for leasing consideration, BOEM is interested in understanding potential opportunities for all types of renewable energy development throughout the Gulf of Mexico. Those interested in leasing within the RFI Area for a commercial wind energy project should provide detailed and specific information described in the section of this RFI entitled “Required Indication of Interest Information.” Those interested in providing public comments and information regarding site conditions, resources, and multiple uses in close proximity to, or within, the RFI Area should provide information requested in the section of this RFI entitled “Requested Information from Interested or Affected Parties.” As a result of this RFI, BOEM may or may not issue a lease for a commercial wind energy project within the RFI Area; a lease is the first step in BOEM's process to review and approve a commercial wind energy project. See the section of this RFI entitled “BOEM's Planning and Leasing Process.”

DATES: Submissions indicating your interest in or providing comments on commercial leasing within the RFI Area must be received no later than July 26, 2021. Late submissions may not be considered.

ADDRESSES: Please submit indications of interest in commercial leasing via U.S. Postal Service, FEDEX, UPS, or any other mail carrier to: Bureau of Ocean Energy Management, Office of Emerging Programs, 1201 Elmwood Park Boulevard, New Orleans, Louisiana 70123. In addition to a paper copy, include an electronic copy on any digital data storage device. Do not submit indications of interest via the Federal eRulemaking Portal.

Please submit comments and other information as listed in the section titled “Requested Information from Interested or Affected Parties” by either of the following two methods:

1. Federal eRulemaking Portal: http://www.regulations.gov. In the search box at the top of the web page, enter BOEM-2021-0041 and then click “search.” Follow the instructions to submit public comments and view supporting and related materials.

2. U.S. Postal Service or other mail delivery service. Send your comments and other information to the following address: Bureau of Ocean Energy Management, Office of Emerging Programs, 1201 Elmwood Park Boulevard, New Orleans, Louisiana 70123.

For information about submitting public comments, please see the section under SUPPLEMENTARY INFORMATION entitled “Protection of Privileged, Personal, or Confidential Information.”

FOR FURTHER INFORMATION CONTACT: Tershara Matthews, Chief, Emerging Programs, Office of Emerging Programs, Bureau of Ocean Energy Management, 1201 Elmwood Park Boulevard, New Orleans, Louisiana 70123, (504) 736-2676 or tershara.matthews@boem.gov.

SUPPLEMENTARY INFORMATION:

1. Authority

This RFI is published under section 8(p)(3) of the Outer Continental Shelf Lands Act (OCSLA), 43 U.S.C. 1337(p)(3) as well as the implementing regulations at 30 CFR 585.210.

2. Purpose

Section 8(p)(3) of OCSLA requires BOEM to award leases competitively, unless BOEM determines that there is no competitive interest. This RFI is a preliminary step to assist BOEM in determining potential interest in offshore wind in the RFI Area. If, following this RFI, BOEM determines that there is no competitive interest in the RFI Area, BOEM may proceed with the noncompetitive leasing process under 30 CFR 585.232. If, following this RFI, BOEM determines that there is competitive interest in any portion of the RFI Area, BOEM may proceed with the competitive leasing process under 30 CFR 585.211 through 585.225. Whether the leasing process is competitive or noncompetitive, BOEM will include opportunities for the public to provide input. In addition, BOEM will conduct a thorough environmental review and requisite consultations with appropriate Federal agencies, federally recognized Tribes, State and local governments, and other interested parties, which will be conducted in conformance with all applicable laws and regulations. Parties other than those interested in obtaining a commercial lease are welcome to submit comments in response to this RFI.

3. Description of the RFI Area

The RFI Area comprises the entire Central Planning Area (CPA) and Western Planning Area (WPA) of the Gulf of Mexico, excluding the portions of those areas located in water depths greater than 1,300 meters.

The CPA is bounded on the north by the Federal-State boundary offshore Louisiana, Mississippi, and Alabama. The eastern boundary of the CPA begins at the offshore boundary between Alabama and Florida and proceeds southeasterly to 26.19° N latitude, thence southwesterly to 25.6° N latitude. The western boundary of the CPA begins at the offshore boundary between Texas and Louisiana and proceeds southeasterly to 28.43° N latitude, thence south-southwesterly to 27.49° N latitude, thence south-southeasterly to 25.80° N latitude. The CPA is bounded on the south by the maritime boundary with Mexico as established by the Treaty between the Government of the United States of America and the Government of the United Mexican States on the Delimitation of the Continental Shelf in the Western Gulf of Mexico beyond 200 Nautical Miles (U.S.-Mexico Treaty), which took effect in January 2001, and by the limit of the U.S. Exclusive Economic Zone in the area east of the continental shelf boundary with Mexico. The CPA available for possible wind energy leasing consists of approximately 29 million acres.

The WPA is bounded on the west and north by the Federal-State boundary offshore Texas. The eastern boundary begins at the offshore boundary between Texas and Louisiana and proceeds southeasterly to 28.43° N latitude, thence south-southwesterly to 27.49° N latitude, thence south-southeasterly to 25.80° N latitude. The WPA is bounded on the south by the maritime boundary with Mexico as established by the U.S.-Mexico Treaty. The WPA available for possible wind energy leasing consists of approximately 21.5 million acres.

A map depicting the RFI Area is available for download on the BOEM website at http://www.boem.gov. A map depicting current active oil and gas leases in the Gulf of Mexico can be found at https://www.boem.gov/gom-interactive-lease-statistics-dashboard.

4. Requested Information From Interested or Affected Parties

BOEM requests specific and detailed comments from the public and other interested or affected parties regarding the following features, activities, mitigations, or concerns within or around the RFI Area:

a. Geological, geophysical, and biological bathymetric conditions (including shallow hazards and live bottom).

b. Known archaeological or cultural resource sites on the seabed.

c. Information regarding the identification of historic properties or potential effects to historic properties from leasing, site assessment activities (including the construction of meteorological towers or the installation of meteorological buoys), or commercial wind energy development in the RFI Area. This includes potential offshore and onshore archaeological sites or historic properties within the RFI Area that could potentially be affected by renewable energy activities within the RFI Area. This information will inform BOEM's review of future undertakings under section 106 of the National Historic Preservation Act (NHPA) and under the National Environmental Policy Act (NEPA).

d. Information about potentially conflicting uses of the RFI Area, including, but not limited to, navigation (in particular, commercial and recreational vessel use), significant sediment resource areas, and oil and gas leasing. Additional information regarding recreational and commercial fisheries including, but not limited to, the use of the areas, the fishing gear used, seasonal use, and recommendations for reducing use conflicts.

e. Available and pertinent data and information concerning renewable energy resources and environmental conditions. Where applicable, spatial information should be submitted in a format compatible with ArcGIS 10.8.1 in a geographic coordinate system (NAD 27).

f. Information relating to visual resources and aesthetics, the potential impacts of wind turbines and associated infrastructure to those resources, and potential strategies to help mitigate or minimize any visual effects.

g. Other relevant socioeconomic, cultural, biological, and environmental information.

h. Any other relevant information BOEM should consider during its planning and decision-making process for the purpose of issuing leases in the RFI Area.

i. Even if you are not interested in nominating acreage for leasing, BOEM is interested in understanding potential opportunities for all types of renewable energy development in the Gulf of Mexico. Please provide information to develop an understanding of the potential investment opportunities or interest in developing clean energy in the area.

5. Required Indication of Interest Information

If you intend to submit one or more indications of interest for a commercial wind energy lease within the RFI Area, you must provide the following information for each indication of interest:

a. The BOEM leasing map name and number, or official protraction diagram number, and the specific whole or partial OCS blocks within the RFI Area that you are interested in leasing. This information should be submitted as a spatial file compatible with ArcGIS 10.8.1 in a geographic coordinate system (NAD 27) in addition to your hard copy submittal. If your nomination includes one or more partial blocks, please describe those partial blocks in terms of a sixteenth (i.e., sub-block) of an OCS block.

b. A description of your objectives and the facilities that you would use to achieve those objectives.

c. A preliminary schedule of proposed activities, including those leading to commercial operations.

d. Available and pertinent data and information concerning renewable energy resources and environmental conditions in the areas that you wish to lease, including energy and resource data and information used to evaluate the area. Where applicable, spatial information should be submitted in a format compatible with ArcGIS 10.8.1 in a geographic coordinate system (NAD 27).

e. Documentation demonstrating that you are legally qualified to hold a lease in accordance with 30 CFR 585.106 and 585.107(c). Examples of the documentation appropriate for demonstrating your legal qualifications and related guidance can be found in the Qualifications to Acquire and Hold Renewable Energy Leases and Grants on the OCS. Legal qualification documents that you provide to BOEM may be made available for public review. If you wish that any part of your legal qualification documentation be kept confidential, clearly identify what should be kept confidential and submit it under separate cover (see the section of this RFI entitled “Protection of Privileged or Confidential Information Section”).

f. Documentation demonstrating that you are technically and financially capable of constructing, operating, maintaining, and decommissioning the commercial wind energy facility described in your submission in accordance with 30 CFR 585.107(a). Guidance regarding the documentation to demonstrate your technical and financial qualifications can be found at http://www.boem.gov/Renewable-Energy-Program/Regulatory-Information/QualificationGuidelines-pdf.aspx.

Any documentation you submit to demonstrate your legal, technical, and financial qualifications must be provided to BOEM in both paper and electronic formats. BOEM considers an Adobe PDF file on a media storage device to be an acceptable format for an electronic copy.

6. Protection of Privileged, Personal, or Confidential Information

a. Freedom of Information Act

BOEM will protect privileged or confidential information that you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.113(b) that it qualifies for exemption from disclosure under FOIA. Please label privileged or confidential information “Contains Confidential Information” and consider submitting such information as a separate attachment.

BOEM will not treat as confidential any aggregate summaries of such information or comments not containing such privileged or confidential information. Additionally, BOEM will not treat as confidential (1) the legal title of the nominating entity (for example, the name of your company), or (2) the list of whole or partial blocks that you are nominating. Information that is not labeled as privileged or confidential may be regarded by BOEM as suitable for public release.

b. Personally Identifiable Information

BOEM does not consider anonymous comments; please include your name and address as part of your comment. You should be aware that your entire comment, including your name, address, and any personally identifiable information (PII) included in your comment, may be made publicly available. All submissions from identified individuals, businesses, and organizations will be available for public viewing on regulations.gov and may release comments under a FOIA request. For BOEM to withhold your PII from disclosure, you must identify any information contained in your comments that, if released, would constitute a clearly unwarranted invasion of your personal privacy. You must also briefly describe any possible harmful consequences of the disclosure of information, such as embarrassment, injury, or other harm.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of NHPA as confidential.

7. BOEM's Environmental Review Process

Before deciding whether and where leases may be issued, BOEM will prepare an environmental assessment (EA) under the NEPA process and conduct consultations to consider the environmental consequences associated with issuing commercial wind energy leases within the RFI Area. The EA will consider the reasonably foreseeable environmental consequences associated with leasing, such as site characterization activities (including geophysical, geotechnical, archaeological, and biological surveys) and site assessment activities (including installation of a meteorological tower or meteorological buoy). BOEM also will conduct appropriate consultations concurrently with, and integrated into, the NEPA process. These consultations include, but are not limited to, those required by the Coastal Zone Management Act, the Endangered Species Act, the Magnuson-Stevens Fishery Conservation and Management Act, section 106 of the NHPA, and Executive Order 13175—“Consultation and Coordination with Tribal Governments.”

Before BOEM allows a lessee to begin construction of a wind energy project in the RFI Area, BOEM will consider the environmental effects of the construction and operation of any wind energy facility under a separate, project-specific NEPA process. This separate NEPA process will include additional opportunities for public involvement and likely will result in the publication of an environmental impact statement.

BOEM's Planning and Leasing Process

1. Determination of Competitive Interest: Section 8(p)(3) of OCSLA states that “the Secretary shall issue a lease, easement, or right-of-way . . . on a competitive basis unless the Secretary determines after public notice of a proposed lease, easement, or right-of-way that there is no competitive interest.” Accordingly, BOEM must first determine whether there is competitive interest in acquiring a lease within the RFI Area to develop offshore wind energy. At the conclusion of the comment period for this RFI, BOEM will review the indications of interest received and determine if competitive interest exists in any part of the RFI Area. For areas with competitive interest, BOEM may consider proceeding with competitive leasing as described in the section of this RFI entitled “Competitive Leasing Process.” For areas where BOEM determines that only one entity is interested, BOEM may consider proceeding with noncompetitive leasing, as described in the section entitled “Noncompetitive Leasing Process.”

If BOEM determines that competitive interest exists in the RFI Area and identifies those areas as appropriate to lease, BOEM may hold a competitive lease sale on any or all portions of the RFI Area. In the event BOEM holds such a lease sale, all qualified bidders, including those bidders that did not submit an indication of interest in response to this RFI, will be able to participate in the lease sale. BOEM reserves the right not to lease any or all portions of the RFI Area or to modify such areas from their original, proposed form before offering them for lease.

2. Competitive Leasing Process: BOEM will follow the steps required by 30 CFR 585.211 through 585.225 if it decides to proceed with the competitive leasing process in the RFI Area. Those steps are:

a. Call for Information and Nominations (Call): BOEM will publish a Call in the Federal Register for leasing in specified areas. The comment period following the Call will be 45 days. In the Call, BOEM may request comments seeking information on areas that should receive special consideration and analysis; geological conditions (including bottom hazards); archaeological sites on the seabed or nearshore; possible multiple uses of the proposed leasing area (including navigation, recreation, and fisheries); and on other socioeconomic, biological, and environmental matters. In response to the Call, potential lessees must submit the following information: The area of interest for a possible lease; a general description of the potential lessee's objectives and the facilities that the potential lessee would use to achieve those objectives; a general schedule of proposed activities, including those leading to commercial operations; data and information concerning renewable energy and environmental conditions in the area of interest, including the energy and resource data and information used to evaluate the area of interest; and documentation showing the potential lessee is qualified to hold a lease. However, a potential lessee is not required to resubmit information it has already submitted in response to this RFI.

b. Area Identification: Based on the information received in response to this RFI and the Call, BOEM will determine the level of commercial interest and identify the areas that would be appropriate to analyze for potential leasing. The areas identified will constitute the wind energy areas (WEA) and will be subject to environmental analysis as described above, in consultation with appropriate Federal agencies, Federally recognized Tribes, State and local governments, and other interested parties.

c. Proposed Sale Notice (PSN): If BOEM decides to proceed with a competitive lease sale within the WEA after completion of its environmental analysis and consultations, BOEM will publish a PSN in the Federal Register with a comment period of 60 days. The PSN will describe the areas BOEM intends to offer for leasing, the proposed conditions of a lease sale, the proposed auction format of the lease sale, and the lease instrument, including lease addenda. Additionally, the PSN will describe the criteria and process for evaluating bids in the lease sale.

d. Final Sale Notice (FSN): After considering the comments on the PSN, if BOEM decides to proceed with a competitive lease sale, it will publish a FSN in the Federal Register at least 30 days before the date of the lease sale.

e. Bid Submission and Evaluation: Following publication of the FSN in the Federal Register, BOEM will offer the lease areas through a competitive sale process, using procedures specified in the FSN. BOEM will review the sale, including bids and bid deposits, for technical and legal adequacy. BOEM will ensure that bidders have complied with all applicable regulations. BOEM reserves the right to reject any or all bids and to withdraw an offer to lease an area, even after bids have been submitted.

f. Issuance of a Lease: Following identification of the winning bid on a lease area, BOEM will notify the successful bidder and provide a set of official lease documents for signature. BOEM requires a successful bidder to sign and return the lease, pay the remainder of the bonus bid, if applicable, and file the required financial assurance within 10-business days of receiving the lease documents. Upon receipt of the required payments, financial assurance, and properly signed lease forms, BOEM may execute a lease with the successful bidder.

3. Noncompetitive Leasing Process: BOEM's noncompetitive leasing process would include the following steps:

a. Determination of No Competitive Interest: If, after evaluating all relevant information, BOEM determines there is no competitive interest in all or a portion of the RFI Area, it may proceed with the noncompetitive lease issuance process under 30 CFR 585.231 and 585.232. BOEM will seek to determine if the sole respondent, who nominated a particular area, intends to proceed with acquiring the lease; if so, the respondent must submit an acquisition fee as specified in 30 CFR 585.502(a). After receiving the acquisition fee, BOEM will follow the process outlined in 30 CFR 585.231(d) through (i), which includes the publication of a determination of no competitive interest in the Federal Register.

b. Review of Lease Request: BOEM will comply with all required consultations and environmental analyses before issuing a lease noncompetitively. Further, BOEM will coordinate and consult, as appropriate, with relevant Federal agencies, federally recognized Tribes, affected State and local governments, and other affected or interested parties in formulating lease terms, conditions, and stipulations.

c. Lease Issuance: After completing its review of the lease request, BOEM may offer a noncompetitive lease. Within 10-business days of receiving the lease, the respondent must execute it and provide a $100,000 lease-specific bond, under 30 CFR 585.515, to guarantee compliance with all terms and conditions of the lease. Within 45 days of receiving the lease, the lessee must pay BOEM the first 12 months' rent.

Amanda Lefton,
Director, Bureau of Ocean Energy Management.

[FR Doc. 2021-12267 Filed 6-10-21; 8:45 am]

BILLING CODE 4310-MR-P